DEPARTMENT OF HEALTH AND HUMAN SERVICES

Indian Health Service

4-in-1 Grant Program; Correction

AGENCY: Indian Health Service, HHS.

ACTION: Notice; correction.

SUMMARY: The Indian Health Service published a document in the Federal Register on March 14, 2016, for the FY 2016 4-in-1 Grant Program. The notice contained incorrect page limits for one section of the project narrative and the overall project narrative.

FOR FURTHER INFORMATION CONTACT: Rick Mueller, Public Health Advisor, Office of Urban Indian Health Programs, 5600 Fishers Lane, Mail Stop: 08E65B, Rockville, MD 20857, Telephone (301) 443-4680. (This is not a toll-free number.)

Corrections

In the Federal Register of March 14, 2016, in FR Doc. 2016-05761, the following corrections are made:

1. On page 13382, in the first column, under the heading “IV. Application and Submission Information, 2. Content and Form of Application Submission”, the correct Project Narrative requirement should read as “Project Narrative (must be single-spaced and not exceed thirty two pages)”.

2. On page 13382, in the second column, under the heading “IV. Application and Submission Information, Requirements for Project and Budget Narratives, A. Project Narrative”, the correct paragraphs should read as “The project narrative should be a separate Word document that is no longer than 32 pages and must: Be single-spaced, be type-written, have consecutively numbered pages, use black type not smaller than 12 characters per one inch, and be printed on one side only of standard size 8½ x 11 paper.

Be sure to succinctly address and answer all questions listed under the narrative and place them under the evaluation criteria (refer to Section V.1, Evaluation criteria in this announcement) and place all responses and required information in the correct section (noted below), or they shall not be considered or scored. These narratives will assist the Objective Review Committee (ORC) in becoming familiar with the applicant's activities and accomplishments prior to this grant award. If the narrative exceeds the page limit, only the first 32 pages will be reviewed. The 32-page limit for the narrative does not include the table of contents, abstract, standard forms, budget justification narrative, and/or other appendix items”.

3. On page 13382, in the third column, under the heading “IV. Application and Submission Information, Requirements for Project and Budget Narratives, A. Project Narrative, Part A: Program Information (3 Page Limitation)”, the correct subheading and page limit should read as “Part A: Program Information (10 page limitation)”.

4. On page 13384, in the first column, under the heading “V. Application Review Information”, the correct paragraph should read as “The instructions for preparing the application narrative also constitute the evaluation criteria for reviewing and scoring the application. Weights assigned to each section are noted in parentheses. The 32 page narrative should include only the first year activities; information for multi-year projects should be included as an appendix. See “Multi-year Project Requirements” at the end of this section for more information. The narrative should be written in a manner that is clear to outside reviewers unfamiliar with prior related activities of the applicant. It should be well organized, succinct, and contain all information necessary for reviewers to understand the project fully. Points will be assigned to each evaluation criteria adding up to a total of 100 points. A minimum score of 60 points is required for funding. Points are assigned as follows:”

Dated: April 25, 2016.
Elizabeth A. Fowler,
Deputy Director for Management Operations, Indian Health Service.

[FR Doc. 2016-10164 Filed 4-28-16; 8:45 am]

BILLING CODE 4165-16-P